DEPARTMENT OF ENERGY

Federal Energy Regulatory Commission

[Docket No. EC02-23-000, et al.]

Trans-Elect, Inc. et al.; Electric Rate and Corporate Regulation Filings

May 17, 2002.

The following filings have been made with the Commission. The filings are listed in ascending order within each docket classification.

1. Trans-Elect, Inc., Michigan Transco Holdings, Limited Partnership, Consumers Energy Company, and Michigan Electric Transmission Company

[Docket Nos. EC02-23-000 and ER02-320-004]

Take notice that on May 13, 2002, Consumers Energy Company (Consumers) submitted the compliance filing required by the Federal Energy Regulatory Commission's (Commission) order of February 13, 2002 in the above-referenced proceedings. The filing includes First Revised Consumers Rate Schedule Nos. 116 and 117.

The filing was served on all parties on the Commission's official service list in these proceedings.

Comment Date: June 3, 2002.

2. Trans-Elect, Inc., Michigan Transco Holdings, Limited Partnership, Consumers Energy Company, and Michigan Electric Transmission Company

[Docket Nos. EC02-23-000 and ER02-320-005]

Take notice that on May 13, 2002, Michigan Electric Transmission Company, LLC (Michigan Transco LLC) submitted the compliance filing required by the Federal Energy Regulatory Commission's (Commission) order of February 13, 2002 in the above-referenced proceedings.

Copies of the transmittal letter included as part of this filing were served on all parties on the Commission's official service list in these proceedings and on all affected state commissions.

Comment Date: June 3, 2002.

3. Thermo Cogeneration Partnership, L.P

[Docket No. EG02-135-000]

Take notice that on May 9, 2002, Thermo Cogeneration (Thermo Cogeneration), a Delaware limited liability partnership, with its principal place of business at 6811 Weld County Road, Ft. Lupton, Colorado 80621, filed with the Federal Energy Regulatory Commission (Commission) an application for determination of exempt wholesale generator (EWG) status pursuant to Part 365 of the Commission's regulations

Thermo Cogeneration states that it will be engaged directly and exclusively in the business of owning or operating, or both owning and operating, a 272 MW gas-fired combined cycle power generation facility located in Ft. Lupton, Colorado (Facility). Under power purchase agreements with Public Service Co. of Colorado, Thermo Cogeneration will sell the capacity exclusively at wholesale.

A copy of the filing was served upon the Securities and Exchange Commission, the Public Utilities Commission of the State of Colorado.

Comment Date: June 7, 2002.

4. Wisconsin Power and Light Company

[Docket Nos. EL02-47-002 and EL02-52-002]

Take notice that on May 14, 2002, Wisconsin Power and Light Company tendered for filing with the Federal Energy Regulatory Commission (Commission), a Refund Report in response to the Commission's Order dated March 15, 2002 in the above named dockets.

A copy of this filing has been served upon all affected customers and the Public Service Commission of Wisconsin.

Comment Date: June 4, 2002.

5. Entergy Services, Inc.

[Docket No. ER00-1743-004]

Take notice that on May 14, 2002, Entergy Services, Inc., submits for filing with the Federal Energy Regulatory Commission (Commission) on behalf of the five Entergy Operating Companies: Entergy Arkansas, Inc., Entergy Gulf States, Inc., Entergy Louisiana, Inc., Entergy Mississippi, Inc., and Entergy New Orleans, Inc. (together Entergy), this compliance filing is in response to the Commission's April 29, 2002 Order in the above-captioned docket. A copy of this filing has been served upon the state regulators of the Entergy operating companies.

Comment Date: June 4, 2002.

6. Central Maine Power Company

[Docket No. ER02-1223-001]

Please take notice that on May 14, 2002 , Central Maine Power Company (CMP) tendered for filing an executed Local Network Operating Agreements (LNOA) and executed service agreements for Local Network Transmission Service (LNSA) entered into with United American Hydro, L.P. (UAH-Hydro Kennebec Limited Partnership). These agreements supersede agreements previously filed on March 4, 2002. Service will be provided pursuant to CMP's Open Access Transmission Tariff, designated rate schedule CMP-FERC Electric Tariff, Fifth Revised Volume No. 3, under the following Service Agreement Numbers:

United American Hydro LNSA-First Revised Service Agreement No. 147

United American Hydro LNOA-First Revised Service Agreement No. 148

Comment Date: June 4, 2002.

7. Tri-State Power, LLC

[Docket No. ER02-1263-001]

Take notice that on May 10, 2002, Tri-State Power, LLC (TSP) tendered for filing with the Federal Energy Regulatory Commission (Commission) corrected copies of the long-term contract under which (TSP) will sell electricity under Rate Schedule FERC No. 1 to Tri-State Generation & Transmission Association, Inc. (TSGTA) in compliance with the April 25, 2002 letter from Michael A. Coleman, Director, Division of Tariffs and Rates—West. TSP also filed a corrected short-term agreement under which it will sell start-up test energy to TSGTA..

Comment Date: June 4, 2002.

8. Commonwealth Edison Company

[Docket No. ER02-1775-000]

Take notice that on May 9, 2002, Commonwealth Edison Company (ComEd) submitted for filing a service agreement for non-firm point-to-point transmission service, a service agreement for short-term firm point-to-point transmission service, and a Network Operating Agreement between ComEd and Sempra Energy Solutions (Sempra) as well as a service agreement for firm point-to-point transmission service between ComEd and Edison Mission Marketing & Trading, Inc. (Edison Mission) (collectively the Agreements) under ComEd's FERC Electric Tariff, Second Revised Volume No. 5.

ComEd seeks an effective date of April 9, 2002 for the Agreements and, accordingly, seeks waiver of the Commission's notice requirements. ComEd states that a copy of this filing has been served on Sempra, Edison Mission and the Illinois Commerce Commission.

Comment Date: May 29, 2002.

9. Arthur Kill Power LLC

[Docket No. ER99-2161-003]

Take notice that on May 13, 2002, Arthur Kill Power LLC tendered for filing its triennial review in compliance with the Commission's order in Rocky Road Power LLC, et al. Docket No. ER99-2157-000, et al., 87 FERC ¶ 61, 163 (1999).

Comment Date: June 3, 2002.

10. Huntley Power LLC

[Docket No. ER99-2162-003]

Take notice that on May 13, 2002, Huntley Power LLC tendered for filing its triennial review in compliance with the Federal Energy Regulatory Commission's (Commission) Order in Rocky Road Power LLC, et al. Docket No. ER99-2157-000, et al., 87 FERC ¶ 61, 163 (1999).

Comment Date: June 3, 2002.

11. Dunkirk Power LLC

[Docket No. ER99-2168-003]

Take notice that on May 13, 2002, Dunkirk Power LLC tendered for filing its triennial review in compliance with the Federal Energy Regulatory Commission's (Commission) Order in Rocky Road Power LLC, et al. Docket No. ER99-2157-000, et al., 87 FERC ¶ 61, 163 (1999).

Comment Date: June 3, 2002.

12. Astoria Gas Turbine Power LLC

[Docket No. ER99-3000-001]

Take notice that on May 13, 2002, Astoria Gas Turbine Power LLC tendered for filing its triennial review in compliance with the Commission's order in Rocky Road Power LLC, et al. Docket No. ER99-2157-000, et al., 87 FERC ¶ 61, 163 (1999).

Comment Date: June 3, 2002.

13. Go Green, Inc.

[Docket No. QF02-65-000]

Take notice that on April 26, 2002, Go Green, Inc. tendered for filing with the Federal Energy Regulatory Commission (Commission), an Application for Certification of a Qualifying Facility.

Comment Date: May 28, 2002.

Standard Paragraph:

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-13052 Filed 5-23-02; 8:45 am]

BILLING CODE 6717-01-P